DEPARTMENT OF TRANSPORTATION

Pipeline and Hazardous Materials Safety Administration

[Docket No. PHMSA-2010-0147]

Pipeline Safety: Request for Special Permit

AGENCY: Pipeline and Hazardous Materials Safety Administration (PHMSA), DOT.

ACTION: Notice.

SUMMARY: Pursuant to the Federal pipeline safety laws, PHMSA is publishing this notice of special permit request we have received from a hazardous liquid pipeline operator, Anchor Point Energy, LLC. Anchor Point Energy, LLC is seeking relief from compliance with certain plastic pipe design requirements in the Federal pipeline safety regulations in connection with the Class 1 location portion of a 7.4 mile natural gas pipeline to be constructed in Alaska. This notice seeks public comments on this request, including comments on any safety or environmental impacts. At the conclusion of the 30-day comment period, PHMSA will evaluate the request and determine whether to grant or deny a special permit.

DATES: Submit any comments regarding this special permit request by July 22, 2010.

ADDRESSES: Comments should reference the docket number for the specific special permit request and may be submitted in the following ways:

• E-Gov Web Site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue, SE., Washington, DC 20590.

• Hand Delivery: DOT Docket Management System: U.S. Department of Transportation, Docket Operations, M-30, West Building Ground Floor, Room W12-140, 1200 New Jersey Avenue, SE., Washington, DC 20590, between 9 a.m. and 5 p.m., Monday through Friday, except Federal holidays.

Instructions: You should identify the docket number for the special permit request you are commenting on at the beginning of your comments. To receive confirmation that PHMSA has received your comments, please include a self-addressed stamped postcard. Internet users may submit comments at http://www.Regulations.gov.

Note: Comments are posted without changes or edits to http://www.Regulations.gov, including any personal information provided. There is a privacy statement published on http://www.Regulations.gov.

FOR FURTHER INFORMATION CONTACT: General: Kay McIver by telephone at (202) 366-0113; or, e-mail at kay.mciver@dot.gov.

Technical: Vincent Holohan by telephone at (713) 366-1933; or, e-mail at vincent.holohan@dot.gov.

SUPPLEMENTARY INFORMATION: PHMSA has received a request for special permit from a pipeline operator who seeks relief from compliance with certain pipeline safety regulations. This request includes a technical analysis provided by the respective operator. Each request is filed in Regulations.gov and has been assigned a separate docket number. We invite interested persons to participate by reviewing this special permit request and supporting documents at http://www.Regulations.gov, and by submitting written comments, data or other views. Please include any comments on potential environmental impacts that may result if this special permit is granted.

Before acting on this special permit request, PHMSA will evaluate all comments received on or before the comments closing date. Comments will be evaluated after this date if it is possible to do so without incurring additional expense or delay. PHMSA will consider each relevant comment we receive in making our decision to grant or deny a request.

PHMSA has received the following special permit request:

Docket Number | Requester | Regulation(s) affected | Nature of special permit
PHMSA-2010-0063 | Anchor Point Energy, LLC | 49 CFR 192.121 | Anchor Point Energy, LLC, (APE) pipeline seeks relief from certain Federal regulations contained in 49 CFR 192.121, to construct and operate a dual natural gas pipeline (7.4 miles long) located in the Kenai Peninsula Borough, near Anchor Point, Alaska. The pipeline is intended to transport natural gas from the North Fork Unit and deliver it to a sales pipeline operated by Enstar Natural Gas Company. The construction is planned to begin in mid 2010. Approximately 6.4 miles of the proposed pipeline is in a Class 1 area. Approximately 0.1 mile at the west end of the current Class 1 area has been considered as possible for conversion to Class 2 during the life of the project. APE is requesting that a special permit be issued to allow the use of Fiberspar LinePipe in the Class 1 area of the project, excluding the 0.1 mile possible future Class 2 area. The pipeline starts at the North Fork Unit Pad operated by Armstrong Cook Inlet, LLC, and the end point will be at an Enstar Natural Gas Company pipeline to be located at the unincorporated community of Anchor Point.

Authority: 49 U.S.C. 60118 (c)(1) and 49 CFR 1.53.

Issued in Washington, DC on June 16, 2010.
Jeffrey D. Wiese,
Associate Administrator for Pipeline Safety.

[FR Doc. 2010-15197 Filed 6-21-10; 8:45 am]

BILLING CODE 4910-60-P